DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472 (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 16, 2017.
Roy E. Wright,
Deputy Associate Administrator for Insurance and Mitigation, Department of Homeland Security, Federal Emergency Management Agency.

State and county | Location and case No. | Chief executive officer of community | Community map repository | Date of modification | Community No.
Colorado:
Adams (FEMA Docket No.: B-1700) | Unincorporated areas of Adams County (16-08-0431P) | The Honorable Eva J. Henry, Chair, Adams County Board of Commissioners, 4430 South Adams County Parkway, Brighton, CO 80601 | Adams County Stormwater Management Division, 4430 South Adams County Parkway, Brighton, CO 80601 | May 3, 2017 | 080001
Florida:
Collier (FEMA Docket No.: B-1700) | City of Marco Island (16-04-7301P) | The Honorable Larry Honig, Chairman, City of Marco Island Council, 51 Bald Eagle Drive, Marco Island, FL 34145 | City Hall, 51 Bald Eagle Drive, Marco Island, FL 34145 | May 4, 2017 | 155166
Hillsborough (FEMA Docket No.: B-1700) | City of Plant City (16-04-6033P) | The Honorable Rick A. Lott, Mayor, City of Plant City, P.O. Box C, Plant City, FL 33563 | Engineering Division, 302 West Reynolds Street, Plant City, FL 33563 | Apr. 27, 2017 | 120113
Manatee (FEMA Docket No.: B-1700) | City of Bradenton (16-04-6478P) | The Honorable Wayne H. Poston, Mayor, City of Bradenton, 101 Old Main Street West, Bradenton, FL 34205 | City Hall, 101 Old Main Street West, Bradenton, FL 34205 | May 2, 2017 | 120155
Manatee (FEMA Docket No.: B-1700) | Unincorporated areas of Manatee County (16-04-6478P) | The Honorable Betsy Benac, Chair, Manatee County Board of Commissioners, P.O. Box 1000, Bradenton, FL 34206 | Manatee County Building and Development Services Department, 1112 Manatee Avenue West, 4th Floor, Bradenton, FL 34205 | May 2, 2017 | 120153
Marion (FEMA Docket No.: B-1700) | Unincorporated areas of Marion County (16-04-8287P) | The Honorable Carl Zalak, III, Chairman, Marion, County Board of Commissioners, 601 Southeast 25th Avenue, Ocala, FL 34471 | Marion County Growth Services Zoning Division, 2710 East Silver Springs Boulevard, Ocala, FL 34470 | May 3, 2017 | 120160
Miami-Dade (FEMA Docket No.: B-1700) | City of Sunny Isles Beach (16-04-6613P) | The Honorable George “Bud” Scholl, Mayor, City of Sunny Isles Beach, 18070 Collins Avenue, Sunny Isles Beach, FL 33160 | Building Department, 18070 Collins Avenue, Sunny Isles Beach, FL 33160 | May 5, 2017 | 120688
Osceola (FEMA Docket No.: B-1700) | City of St. Cloud (16-04-3373P) | The Honorable Nathan Blackwell, Mayor, City of St. Cloud, 1300 9th Street, St. Cloud, FL 34769 | Public Services Department, 1300 9th Street, St. Cloud, FL 34769 | May 3, 2017 | 120191
Osceola (FEMA Docket No.: B-1700) | Unincorporated areas of Osceola County (16-04-3373P) | The Honorable Brandon Arrington, Chairman, Osceola County Board of Commissioners, 1 Courthouse Square, Suite 4700, Kissimmee, FL 34741 | Osceola County Community Development Department, 1 Courthouse Square, Suite 1100, Kissimmee, FL 34741 | May 3, 2017 | 120189
Louisiana:
Ouachita (FEMA Docket No.: B-1700) | City of Monroe (16-06-3067P) | The Honorable Jamie Mayo, Mayor, City of Monroe, 400 Lea Joyner Memorial Expressway, Monroe, LA 71201 | Planning and Zoning Division, 3901 Jackson Street, Monroe, LA 71201 | Apr. 28, 2017 | 220136
Ouachita (FEMA Docket No.: B-1700) | Unincorporated areas of Ouachita Parish (16-06-3067P) | The Honorable Scotty Robinson, President, Ouachita Parish Police Jury, 301 South Grand Street, Suite 201, Monroe, LA 71201 | Ouachita Parish Ray Oliver Wright Health Unit, 1650 Desiard Street, Suite 202, Monroe, LA 71201 | Apr. 28, 2017 | 220135
New York:
Steuben (FEMA Docket No.: B-17672) | Town of Hornellsville (16-02-1795P) | The Honorable Kenneth Isaman, Supervisor, Town of Hornellsville, 4 Park Avenue, Arkport, NY 14807 | Town Hall, 4 Park Avenue, Arkport, NY 14807 | May 2, 2017 | 360777
Pennsylvania:
Centre (FEMA Docket No.: B-1700) | Township of Ferguson (16-03-2371P) | Mr. Mark Kunkle, Manager, Township of Ferguson, 3147 Research Drive, State College, PA 16801 | Township Hall, 3147 Research Drive, State College, PA 16801 | May 5, 2017 | 420260
Texas:
Bexar (FEMA Docket No.: B-1700) | City of San Antonio (16-06-2124P) | The Honorable Ivy R. Taylor, Mayor, City of San Antonio, P.O. Box 839966, San Antonio, TX 78283 | Transportation and Capital Improvements Department, Storm Water Division, 1901 South Alamo Street, San Antonio, TX 78204 | Apr. 27, 2017 | 480045
Bexar (FEMA Docket No.: B-1700) | City of San Antonio (16-06-2247P) | The Honorable Ivy R. Taylor, Mayor, City of San Antonio, P.O. Box 839966, San Antonio, TX 78283 | Transportation and Capital Improvements Department, Storm Water Division, 1901 South Alamo Street, San Antonio, TX 78204 | Apr. 26, 2017 | 480045
Bexar (FEMA Docket No.: B-1700) | Unincorporated areas of Bexar County (16-08-4363P) | The Honorable Nelson W. Wolff, Bexar County Judge, 101 West Nueva Street, 10th Floor, San Antonio, TX 78205 | Bexar County Public Works Department, 33 North Pecos-La Trinidad Street, Suite 420, San Antonio, TX 78207 | May 5, 2017 | 480035
Harris (FEMA Docket No.: B-1700) | City of Houston (16-06-1650P) | The Honorable Sylvester Turner, Mayor, City of Houston, P.O. Box 1562, Houston, TX 77251 | Floodplain Management Department, 1002 Washington Avenue, Houston, TX 77002 | Apr. 28, 2017 | 480296
Harris (FEMA Docket No.: B-1700) | City of Pasadena (16-06-1957P) | The Honorable Johnny Isbell, Mayor, City of Pasadena, 1211 Southmore Avenue, Pasadena, TX 77502 | Engineering Department, 1114 Davis Street, Pasadena, TX 77502 | Apr. 27, 2017 | 480307
Harris (FEMA Docket No.: B-1700) | Unincorporated areas of Harris County (16-06-1650P) | The Honorable Edward M. Emmett, Harris County Judge, 1001 Preston Street, Suite 911, Houston, TX 77002 | Harris County Permit Office, 10555 Northwest Freeway, Suite 120, Houston, TX 77092 | Apr. 28, 2017 | 480287
Travis (FEMA Docket No.: B-1700) | City of Austin (16-06-3081P) | The Honorable Steve Adler, Mayor, City of Austin, P.O. Box 1088, Austin, TX 78767 | City Hall, 505 Barton Springs Road, 12th Floor, Austin, TX 78703 | May 1, 2017 | 480624
Travis (FEMA Docket No.: B-1700) | Unincorporated areas of Travis County (16-06-3081P) | The Honorable Sarah Eckhardt, Travis County Judge, P.O. Box 1748, Austin, TX 78767 | Travis County Department of Transportation and Natural Resources, 700 Lavaca Street, 5th Floor, Austin, TX 78767 | May 1, 2017 | 481026
Virginia:
Chesterfield (FEMA Docket No.: B-1700) | Unincorporated areas of Chesterfield County (16-03-1954P) | The Honorable Dorothy Jaeckle, Chair, Chesterfield County Board of Supervisors, P.O. Box 40, Chesterfield, VA 23832 | Chesterfield County Department of Environmental Engineering, 9800 Government Center Parkway, Chesterfield, VA 23832 | Apr. 26, 2017 | 510035
Henrico (FEMA Docket No.: B-1700) | Unincorporated areas of Henrico County (16-03-1954P) | The Honorable Richard W. Glover, Chairman, Henrico County Board of Supervisors, P.O. Box 90775, Henrico, VA 23273 | Henrico County Department of Public Works, 4301 East Parham Road, Henrico, VA 23228 | Apr. 26, 2017 | 510077

[FR Doc. 2017-15084 Filed 7-18-17; 8:45 am]

BILLING CODE 9110-12-P